DEPARTMENT OF VETERANS AFFAIRS

[OMB Control No. 2900-0013]

Agency Information Collection Activities Under OMB Review

AGENCY: Veterans Benefits Administration, Department of Veterans Affairs.

ACTION: Notice.

SUMMARY: In compliance with the Paperwork Reduction Act (PRA) of 1995 (44 U.S.C., 3501 et seq.), this notice announces that the Veterans Benefits Administration (VBA), Department of Veterans Affairs, has submitted the collection of information abstracted below to the Office of Management and Budget (OMB) for review and comment. The PRA submission describes the nature of the information collection and its expected cost and burden; it includes the actual data collection instrument.

DATES: Comments must be submitted on or before July 3, 2003.

FOR FURTHER INFORMATION OR A COPY OF THE SUBMISSION CONTACT: Denise McLamb, Records Management Service (005E3), Department of Veterans Affairs, 810 Vermont Avenue, NW., Washington, DC 20420, (202) 273-8030, FAX (202) 273-5981 or e-mail: denise.mclamb@mail.va.gov. Please refer to “OMB Control No. 2900-0013.”

Send comments and recommendations concerning any aspect of the information collection to VA's OMB Desk Officer, OMB Human Resources and Housing Branch, New Executive Office Building, Room 10235, Washington, DC 20503 (202) 395-7316. Please refer to “OMB Control No. 2900-0013” in any correspondence.

SUPPLEMENTARY INFORMATION: Title: Application for United States Flag for Burial Purposes, VA Form 21-2008.

OMB Control Number: 2900-0013.

Type of Review: Extension of a currently approved collection.

Abstract: VA Form 21-2008 is used to determine eligibility for issuance of a burial flag to a family member or friend of a deceased veteran. VA Form was revised to establish eligibility for certain Selected Reserve members, and certain Filipino veterans. The ineligibility provision for felons convicted of a capital crime was also included.

An agency may not conduct or sponsor, and a person is not required to respond to a collection of information unless it displays a currently valid OMB control number. The Federal Register notice with a 60-day comment period soliciting comments on this collection of information was published on January 30, 2003, at page 4814.

Affected Public: Individuals or households, Federal Government, and State, Local or Tribal Government.

Estimated Annual Burden: 162,500 hours.

Estimated Average Burden Per Respondent: 15 minutes.

Frequency of Response: One time.

Estimated Number of Respondents: 650,000.

Dated: May 15, 2003.
By direction of the Secretary:
Jacqueline Parks,
IT Specialist, Records Management Service.

[FR Doc. 03-13894 Filed 6-2-03; 8:45 am]

BILLING CODE 8320-01-P